DEPARTMENT OF COMMERCE

National Oceanic and Atmospheric Administration

RIN 0648-XC760

Gulf of Mexico Fishery Management Council; Public Hearings

AGENCY: National Marine Fisheries Service (NMFS), National Oceanic and Atmospheric Administration (NOAA), Commerce.

ACTION: Notice; public hearings.

SUMMARY: The Gulf of Mexico Fishery Management Council (Council) will hold public hearings for Coastal Migratory Pelagics (CMP) Amendments 19 and 20, and Reef Fish Amendment 39—Regional Management of Recreational Red Snapper.

DATES: The public hearings will be held from Thursday, August 1 through Friday August 15, 2013 at ten locations throughout the Gulf of Mexico. The public hearings will begin at 6 p.m. and will conclude no later than 9 p.m. The first public hearing will be a “call-in session” for Reef Fish Amendment 39—Regional Management of Recreational Red Snapper, Thursday, August 1, 2013; instructions will be available on our Web site. For specific dates and locations see SUPPLEMENTARY INFORMATION below.

ADDRESSES:

Meeting address: The public hearings will be held in the following locations: St. Petersburg, Key West, and Panama City, FL; Grand Isle and Baton Rouge, LA; D' Iberville, MS; Mobile, AL; Corpus Christi and Texas City, TX.

Council address: Gulf of Mexico Fishery Management Council, 2203 North Lois Avenue, Suite 1100, Tampa, FL 33607.

FOR FURTHER INFORMATION CONTACT: Mr. Douglas Gregory, Executive Director, Gulf of Mexico Fishery Management Council; telephone: (813) 348-1630; fax: (813) 348-1711; email: doug.gregory@gulfcouncil.org.

SUPPLEMENTARY INFORMATION: The items of discussion in the public hearings are as follows:

Public Hearings: Reef Fish Amendment 39—Regional Management of Recreational Red Snapper

1. Consider the delegation of authority for some aspects of red snapper management to the states or regions.

2. Apportioning the federal recreational red snapper quota among states or regions.

3. Management measures which may be modified at state or regional level including season structure, bag limits, size limits, closed areas, and sub-allocations.

4. Process and requirements for delegation, including default management measures.

5. Under regional management, red snapper would remain a federally managed species subject to federal conservation goals, and the Council would continue to oversee management of the stock.

Public Hearings: Coastal Migratory Pelagics Amendments 19 and 20—Sale and Permit Provisions and Modifications to the CMP Zone Management

1. Amendment 19 addresses sale and permit provisions for Gulf of Mexico Spanish and king mackerel.

2. Amendment 20 addresses season length, transit provisions, allocation, and framework procedures for coastal migratory pelagics.

The public hearings will begin at 6 p.m. and conclude at the end of public testimony or no later than 9 p.m. at the following locations:

Thursday, August 1, 2013, call-in session; visit www.GulfCouncil.org for instructions.

Monday, August 5, 2013, Courtyard Marriott, 11471 Cinema Drive, D' Iberville, MS 39540, telephone: (228) 392-1200.

Tuesday, August 6, 2013, (CMP only) Holiday Inn Select, 2001 N. Cove Boulevard, Panama City, FL 32405, telephone: (850) 769-0000.

Wednesday, August 7, 2013, (Regional Management only) Holiday Inn Select, 2001 N. Cove Boulevard, Panama City, FL 32405, telephone: (850) 769-0000.

Thursday, August 8, 2013, Renaissance Mobile Riverview Plaza Hotel, 64 South Water Street, Mobile, AL 36602, telephone: (251) 438-4000.

Monday, August 12, 2013, Hilton St. Petersburg Carillon Parkway, 950 Lake Carillon Drive, St. Petersburg, FL 33716, telephone: (727) 540-0050; Hilton Garden Inn, 6717 South Padre Island Drive, Corpus Christi, TX 78412, telephone: (361) 991-8200.

Tuesday, August 13, 2013, Hampton Inn & Suites, 2320 Gulf Freeway South, League City, TX 77573, telephone: (281) 614-5437.

Wednesday, August 14, 2013, (Regional Management only), DoubleTree, 4964 Constitution Avenue, Baton Rouge, LA 70808, telephone: (225) 925-1005.

Thursday, August 15, 2013, (CMP only) Louisiana Wildlife & Fisheries Lab, 195 Ludwig Lane, Grand Isle, LA 70358, telephone: (985) 787-2163; (CMP only) Harvey Government Center, 1200 Truman Avenue, Key West, FL 33040, telephone: (305) 292-4431.

Copies of the public hearing documents can be obtained by calling (813) 348-1630 or visiting www.GulfCouncil.org.

Although non-emergency issues not contained in this agenda may come before this group for discussion, those issues may not be the subject of formal action during these hearings. Action will be restricted to those issues specifically identified in this notice and any issues arising after publication of this notice that require emergency action under section 305(c) of the Magnuson-Stevens Fishery Conservation and Management Act, provided the public has been notified of the Council's intent to take final action to address the emergency.

These hearings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: July 12, 2013.
Tracey L. Thompson,
Acting Deputy Director, Office of Sustainable Fisheries, National Marine Fisheries Service.

[FR Doc. 2013-17115 Filed 7-16-13; 8:45 am]

BILLING CODE 3510-22-P